DEPARTMENT OF HOUSING AND URBAN DEVELOPMENT

[Docket No. FR-4572-D-22]

Redelegation of Authority to the Director of the HUD Departmental Enforcement Center Regarding Civil Money Penalty Actions for Certain Violations Under the National Housing Act

AGENCY: Office of the General Counsel, HUD.

ACTION: Notice of redelegation of authority.

SUMMARY: Elsewhere in today's Federal Register is a notice of a delegation from the Assistant Secretary for Housing'Federal Housing Commissioner to the General Counsel of HUD to take civil money penalty actions against participants in mortgages or loans insured under the National Housing Act for certain violations, along with the power to redelegate that authority. By this action, the General Counsel is redelegating that same authority to the Director of the HUD Departmental Enforcement Center (DEC).

EFFECTIVE DATE: September 12, 2002.

FOR FURTHER INFORMATION CONTACT: Dane M. Narode, Deputy Chief Counsel, Administrative Proceedings Branch, Departmental Enforcement Center, Department of Housing and Urban Development, Portals Building, 1250 Maryland Avenue, Suite 200, Washington, DC 20024, (202) 708-2350. This is not a toll-free number. For the hearing-speech-impaired, the number may be accessed via TTY by calling the Federal Information Relay Service at 1-800-877-8399.

SUPPLEMENTARY INFORMATION: HUD regulations at 24 CFR 30.36 authorize the Assistant Secretary for Housing-Federal Housing Commissioner, or the Assistant Secretary's designee, to take a civil money penalty action against any principal, officer or employee of a mortgagee or lender, or other participant, in either a mortgage insured under the National Housing Act (Act) or any loan that is covered by a contract of insurance under title I of the Act, or any provider of assistance to a borrower in connection with any such mortgage or loan, including: sellers, borrowers, closing agents, title companies, real estate agents, mortgage brokers, appraisers, loan correspondents, dealers, consultants, contractors, subcontractors and inspectors. Section 30.36 also identifies the violations for which the Assistant Secretary for Housing-Federal Housing Commissioner may impose a penalty. See also 12 U.S.C. 1735f-14.

The DEC is responsible for carrying out a wide range of HUD enforcement activities. Because the DEC has been recently placed under the Office of the General Counsel, the Assistant Secretary for Housing-Federal Housing Commissioner retained and delegated the enforcement authority in 24 CFR 30.36 to the General Counsel on September 12, 2002, notice of which is published in today's Federal Register. That delegation allows the General Counsel to redelegate the authority. The General Counsel is, in turn, redelegating that authority to the Director of the DEC.

Accordingly, the General Counsel hereby retains and redelegates authority as follows:

Section A. Redelegation of Authority: The Director of the HUD Departmental Enforcement Center is hereby redelegated the authority to take all actions permitted under 24 CFR 30.36. The authority redelegated does not include authority to waive any regulations issued under the authority of the Assistant Secretary for Housing—Federal Housing Commissioner.

Section B. Authority to Redelegate: The Director of the DEC is not authorized to redelegate the authority described in section A.

Section C: The General Counsel may revoke the authority authorized herein, in whole or in part, at any time.

Authority: Section 30.36 of title 24 of the Code of Federal Regulations.

Dated: September 12, 2002.
Richard A. Hauser,
General Counsel.

[FR Doc. 02-33040 Filed 12-30-02; 8:45 am]

BILLING CODE 4210-67-P